COMMISSION ON CIVIL RIGHTS

Sunshine Act Meeting

AGENCY: United States Commission on Civil Rights.

ACTION: Notice of Commission public business meeting.

DATES: Friday, June 24, 2022, 12:00 p.m. EST.

ADDRESSES: Meeting to take place by telephone and is open to the public by telephone: 877-222-5769 ID Code #: 1911248.

FOR FURTHER INFORMATION CONTACT: Angelia Rorison: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, June 24, 2022, is https://www.streamtext.net/player?event=USCCR. Please note that CART is text-only translation that occurs in real time during the meeting and is not an exact transcript.

Meeting Agenda

I. Approval of Agenda

II. Business Meeting

A. Presentations by State Advisory Committee Chairs on Released Reports and Memorandums

B. Discussion and Vote on Advisory Committee Appointments

C. Discussion and Vote on 2022 Statutory Enforcement Report on FEMA

D. Management and Operations

• Staff Director's Report

III. Adjourn Meeting

Dated: June 15, 2022.
Angelia Rorison,
USCCR Media and Communications Director.

[FR Doc. 2022-13201 Filed 6-15-22; 11:15 am]

BILLING CODE 6335-01-P